DEPARTMENT OF THE INTERIOR

Bureau of Land Management

[LLNVL01000. L51100000.GN0000. LVEMF1201170; N90444; MO# 4500032267; TAS: 14X5017]

Notice of Intent To Prepare an Environmental Impact Statement for the Proposed Pan Mine Project, White Pine County, NV

AGENCY: Bureau of Land Management, Department of the Interior.

ACTION: Notice of intent.

SUMMARY: In compliance with the National Environmental Policy Act of 1969, as amended, (NEPA) and the Federal Land Policy and Management Act (FLPMA) of 1976, as amended, the Bureau of Land Management (BLM) Egan Field Office, Ely, Nevada intends to prepare an Environmental Impact Statement (EIS) and by this notice is announcing the beginning of the scoping process to solicit public comments and identify issues. The proposed project is located in White Pine County, about 50 miles west of Ely near Newark Valley.

DATES: This notice initiates the public scoping process for the EIS. Comments on issues may be submitted in writing until 30 days after the publication of this notice in the Federal Register. The date(s) and location(s) of any scoping meetings will be announced at least 15 days in advance through local media, newspapers, and the BLM Web site at: http://www.blm.gov/nv/st/en/fo/ely_field_office.html. In order to be included in the Draft EIS, all comments must be received prior to the close of the scoping period or 15 days after the last public meeting, whichever is later. We will provide additional opportunities for public participation upon publication of the Draft EIS.

ADDRESSES: You may submit comments related to the Pan Mine Project by any of the following methods:

• Email: BLM_NV_EYDO_Midway_Pan_EIS@blm.gov.

• Fax: (775) 289-1910.

• Mail: BLM Ely District, Egan Field Office, HC 33 Box 33500, Ely, NV, 89301.

Documents pertinent to this proposal may be examined at the Egan Field Office, 702 N. Industrial Way, Ely, Nevada.

FOR FURTHER INFORMATION CONTACT: For further information and/or to have your name added to our mailing list, contact Miles Kreidler, project lead, telephone: (775) 289-1893; email: mkreidler@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Midway Gold US Inc. (Midway) proposes to construct and operate an open-pit gold mining operation, which would include open pits, a heap leach pad, waste rock dumps, and ancillary facilities. The mine would be located in the northern part of the Pancake Mountain Range, about 50 miles west of Ely and 10 miles south of U.S. Route 50. Currently, Midway is authorized to disturb up to 100 acres for exploration purposes. The proposed operations and associated disturbance would increase disturbance to 3,238 acres of public land managed by the BLM. The projected mining period of 13 years, associated construction, closure, and post-closure monitoring periods would extend the project life for an estimated 25 years. Midway is currently conducting exploration activities in this area which were analyzed in two environmental assessments (EA): the Castleworth Ventures, Inc. Pan Exploration Project EA (May 2004) and the Midway Gold Pan Project Exploration Amendment EA (July 2011).

A range of alternatives will be developed, including the no-action alternative, to address the issues identified during scoping. Mitigation measures will be considered to minimize environmental impacts and to assure the proposed action does not result in unnecessary or undue degradation of public lands.

The purpose of the public scoping process is to determine relevant issues that will influence the scope of the environmental analysis, including alternatives, and guide the process for developing the EIS. At present, the BLM has identified the following preliminary issues:

(a) Potential effects to archaeological resources in the area, such as Carbonari (historic charcoal production) sites and a 1913 alternative route of the Lincoln Highway.

(b) Potential effects to greater sage-grouse posed by the proximity to active sage-grouse leks.

(c) Potential effects to viewshed in and around areas of Visual Resources Management Classes III and IV.

(d) Potential effects to wild horses including loss of habitat and mortality from vehicles on newly created roads.

(e) Potential impacts to air quality created by the initiation of mining at the Pan Mine Project. This would increase air pollution in the area.

(f) Potential effects to recreational use including loss of access and hunting areas. Recreationists using the 1913 alternative route of the Lincoln Highway might lose use of this route.

The BLM will use the NEPA public comment process to help fulfill the public involvement requirements of Section 106 of the National Historic Preservation Act (16 U.S.C. 470f) as provided for in 36 CFR 800.2(d)(3). Native American Tribal consultations will be conducted in accordance with policy, and Tribal concerns, including impacts on Indian trust assets, will be given due consideration. Federal, state, and local agencies, along with other stakeholders that may be interested or affected by the BLM's decision on this project are invited to participate in the scoping process and, if eligible, may request or be requested by the BLM to participate as a cooperating agency.

Before including your address, phone number, email address, or other personal identifying information in your comment, you should be aware that your entire comment—including your personal identifying information—may be made publicly available at any time. While you can ask us in your comment to withhold your personal identifying information from public review, we cannot guarantee that we will be able to do so.

Authority: 40 CFR part 1501 and 43 CFR part 3809.

Doris A. Metcalf,
Field Manager, Egan Field Office.

[FR Doc. 2012-9091 Filed 4-13-12; 8:45 am]

BILLING CODE 4310-HC-P